DEPARTMENT OF TRANSPORTATION

Federal Aviation Administration

14 CFR Part 71

[Airspace Docket No. 01-ASO-13]

Amendment of Class E Airspace; Dayton, TN; Correction

AGENCY: Federal Aviation Administration (FAA), DOT.

ACTION: Final rule; correction

SUMMARY: This action corrects an error in the geographic coordinates of a final rule amending the Class E airspace at Dayton, TN, that was published in the Federal Register on November 27, 2001, (66 FR 59136), 01-ASO-13.

EFFECTIVE DATE: 0901 UTC, February 21, 2002.

FOR FURTHER INFORMATION CONTACT: Walter R. Cochran, Manager, Airspace Branch, Air Traffic Division, Federal Aviation Administration, P.O. Box 20636, Atlanta, Georgia 30320; telephone (404) 305-5627.

SUPPLEMENTARY INFORMATION:

History

Federal Register document 01-29480, Airspace Docket No. 01-ASO-13, published on November 27, 2001 (66 FR 59136), amended Class E5 airspace at Dayton, TN. An error was discovered in the geographic coordinates for the Bradley Memorial Hospital point in space. This action corrects that error.

Correction to Final Rule

Accordingly, pursuant to the authority delegated to me, the geographic coordinates for the Class E5 airspace area at Dayton, TN, incorporated by reference at (14 CFR 71.1 and published in the Federal Register on November 27, 2001 (66 FR 59136), is corrected as follows:

§ 71.1 [Corrected]

ASO TN E5 Dayton, TN [CORRECTED]

1. On page 39136, column 3, under Bradley Memorial Hospital, Cleveland, TN, correct the geographic coordinates “(Lat. 35°10′45″ N, long 84°52′56″ W)” to read “(Lat. 35°10′52″ N, long. 84°52′56″ W)”.

* * * * *

Issued in College Park, Georgia, on November 27, 2001.
Wade T. Carpenter,
Acting Manager, Air Traffic Division, Southern Region.

[FR Doc. 01-30173 Filed 12-06-01; 8:45 am]

BILLING CODE 4910-13-M